DEPARTMENT OF COMMERCE

National Oceanic Atmospheric Administration

Amendments to the Area To Be Avoided Off The Olympic Coast National Marine Sanctuary

AGENCY: National Ocean Service (NOS), National Oceanic Atmospheric Administration (NOAA), Commerce.

ACTION: Notice.

SUMMARY: The National Oceanic Atmospheric Administration (NOAA) is notifying the public of its implementation of amendments to the existing Area to be Avoided (ATBA) off the Washington Coast to include all vessels of 1,600 gross tons and above solely in transit in accordance with the International Maritime Organization's (IMO) adoption of MSC 75/24, para 6.7.4 on May 29, 2002.

DATES: The effective date of the amended ATBA is December 1, 2002.

FOR FURTHER INFORMATION CONTACT: George Galasso, Assistant Manager, Olympic Coast National Marine Sanctuary, phone (360) 457-6622, email: george.galasso@noaa.gov.

SUPPLEMENTARY INFORMATION: An ATBA is defined by the IMO as an area that all ships or certain classes of ships should avoid because navigation is particularly hazardous or it is exceptionally important to avoid casualties within the area. On December 7, 1994, the Maritime Safety Committee of the IMO adopted an ATBA proposed by the U.S. government off the Olympic Coast National Marine Sanctuary (OCNMS). Since implementation in June 1995, the United States has been monitoring compliance through the use of Canadian Coast Guard radar data from the Tofino Marine Communications and Traffic System. Compliance with the ATBA is estimated to be between 90-95%, due to the excellent cooperation by the maritime community, vigorous education and outreach efforts by the OCNMS staff and the U.S. Coast Guard, and the sending of educational letters to those ships found to be in non-compliance.

The U.S. Coast Guard has recently conducted a Port Access Route Study (PARS) to critically review all aspects of vessel movements in the area. The conclusions of the PARS resulted in three vessel routing proposals, which were approved by the Sub-Committee on Safety of Navigation and forwarded to the Maritime Safety Committee for adoption. The three proposals were: (1) A proposal to amend the IMO-adopted ATBA “Off the Washington Coast” to increase its size and extend its applicability to commercial ships of 1,600 gross tons and above; (2) A proposal for recommended routes in the United States waters of the Strait of Juan de Fuca for smaller, slower moving vessels that normally do not use the traffic separation scheme; and (3) A proposal amending the existing traffic separation schemes (TSSs) “In the Strait of Juan de Fuca and Its Approaches,” and “In Puget Sound and Its Approaches,” and adding TSSs and other routing measures “In Haro Strait, Boundary Pass, and in the Strait of Georgia.” These proposals were adopted by the IMO's Maritime Safety Committee on May 29, 2002. MCS 75/24.

NOAA's amendment of the existing ATBA off the OCNMS has two elements. First, it increases the size of the ATBA to the north and west, to take into account the amendment of the TSS. This increased size will enhance maritime safety because it provides a greater margin of safety around the navigational hazards of Duntze and Duncan Rocks and Tatoosh Island.

Second, NOAA has expanded the class of ships to which the ATBA applies to include ships of 1,600 gross tons and above. These ships carry substantial amounts of bunker fuel, which, if spilled, would have a devastating impact on the unique, valuable, and sensitive resources of OCNMS.

The OCNMS and surrounding waters contain economically important fishery resources, including a variety of baitfish, shellfish, and salmon. The resources in this area are also critical to the cultural activities and subsistence living of Native American Indian tribes. Important archeological sites of these peoples are found on the shoreline and which could probably be affected by an oil spill from a ship.

In addition, the area has been designated as a UNESCO Biosphere Reserve and World Heritage Site and overlaps with the Washington Islands National Wildlife Refuge and Olympic National Park. The coastal rocks and islands provide important breeding, nesting, and roosting areas for marine birds. Marbled murrelets, abundant in this area, are listed by the United States as a threatened species and are of special concern due to their high vulnerability to oil spills. Bald eagles, listed as a threatened species, are also important to the marine ecosystem in the region. There are also resident and transient killer whale (orca) pods and several dolphin species which frequent the area.

When viewed in conjunction with the U.S. Coast Guard amendment of the TSS, the expansion of the scope of the ATBA is necessary for protection of natural resources from maritime casualty and for general maritime safety. Moving the northern border of the ATBA to a consistent 4,000 yards south of the southernmost edge of the TSS will provide an improved safety buffer for those smaller, slower moving vessels that choose to transit south of the TSS. Continuing this buffer area parallel to the TSS to a point at 124° 52.8′ W will allow sufficient room for this slower moving traffic to transit without conflicting with the inbound traffic steering for the southern approach to the TSS. It also provides a greater margin of safety around the hazards of Duntze and Duncan Rocks, and Tatoosh Island which is known for its strong tides.

NOAA is also applying the ATBA to commercial ships of 1,600 gross tons and above because these ships carry a substantial amount of bunker fuel. Concerns regarding spills of bunker fuel were heightened on the U.S. west coast after the 1999 incident involving the New Carissa which spilled approximately 70,000 gallons of bunker fuel. Requiring commercial ships of 1,600 gross tons and above to transit outside the ATBA would move these ships farther offshore, thus increasing the time available to respond to a propulsion or steering casualty and decreasing the potential for a drift or powered grounding. If there were to be a discharge of bunker fuel, the increased distance offshore would diminish the impact on the shoreline and provide more time to mobilize a response. NOAA analyzed various ship sizes to which the ATBA should be made applicable. Commercial ships of 1,600 gross tons (versus those of only 300 gross tons) are considered large enough to be able to maneuver safely while avoiding the ATBA, in most weather conditions. NOAA has determined there will be minimal adverse impacts on shipping by expanding the applicability of the ATBA to commercial ships of 1,600 gross tons and above. It will not affect those ships bound for the Strait of Juan de Fuca from the north or west. Most ships coming from destinations well to the south of the ATBA will have to alter their course to enter the TSS and thus the expanded applicability of the ATBA will have limited, if any, adverse affect.

The area is bounded by a line connecting the following geographical positions:

Point 1. 48° 23.30′ N, 124° 38.20′ W.

Point 2. 48° 24.17′ N, 124° 38.20′ W.

Point 3. 48° 26.15′ N, 124° 44.65′ W.

Point 4. 48° 26.15′ N, 124° 52.80′ W.

Point 5. 48° 24.67′ N, 124° 55.71′ W.

Point 6. 48° 51.70′ N, 124° 15.50′ W.

Point 7. 48° 07.70′ N, 124° 47.50′ W.

Point 8. 48° 07.70′ N, 124° 11.00′ W.

The Olympic Coast National Marine Sanctuary Advisory Council and North Puget Sound Risk Management Panel have discussed the extension of the provisions of the ATBA to vessels not currently included. Both of these federal advisory bodies supported the extension of the ATBA applicability. The Olympic Coast National Marine Sanctuary has analyzed the population of vessels transiting the ATBA for the risk they pose to Sanctuary resources. The Sanctuary's analysis and further information on NOAA's proposal, including charts and reports, can be viewed at http://www.ocnms.nos.noaa.gov/pubdocs/pars.html.

Jamison S. Hawkins,
Acting Assistant Administrator for Ocean Services and Coastal Zone Management.

[FR Doc. 02-30146 Filed 11-26-02; 8:45 am]

BILLING CODE 3510-NK-P